DEPARTMENT OF ENERGY

Office of Energy Efficiency and Renewable Energy

[Case No. CW-013]

Energy Conservation Program for Consumer Products: Notice of Petition for Waiver of the General Electric Company From the Department of Energy Residential Clothes Washer Test Procedure, and Grant of Interim Waiver

AGENCY: Office of Energy Efficiency and Renewable Energy, Department of Energy.

ACTION: Notice of petition for waiver, notice of grant of interim waiver, and request for comments.

SUMMARY: This notice announces receipt of and publishes the General Electric Company (GE) petition for waiver (hereafter, “petition”) from specified portions of the U.S. Department of Energy (DOE) test procedure for determining the energy consumption of clothes washers. Today's notice also grants an interim waiver of the clothes washer test procedure. Through this notice, DOE also solicits comments with respect to the GE petition.

DATES: DOE will accept comments, data, and information with respect to the GE petition until, but no later than October 25, 2010.

ADDRESSES: You may submit comments, identified by case number CW-013, by any of the following methods:

• Federal eRulemaking Portal: http://www.regulations.gov. Follow the instructions for submitting comments.

• E-mail: AS_Waiver_Requests@ee.doe.gov Include “Case No. CW-013” in the subject line of the message.

• Mail: Ms. Brenda Edwards, U.S. Department of Energy, Building Technologies Program, Mailstop EE-2J/1000 Independence Avenue, SW., Washington, DC 20585-0121. Telephone: (202) 586-2945. Please submit one signed original paper copy.

• Hand Delivery/Courier: Ms. Brenda Edwards, U.S. Department of Energy, Building Technologies Program, 950 L'Enfant Plaza SW., Suite 600, Washington, DC 20024. Please submit one signed original paper copy.

Instructions: All submissions received should include the agency name and case number for this proceeding. Submit electronic comments in WordPerfect, Microsoft Word, Portable Document Format (PDF), or text (American Standard Code for Information Interchange (ASCII)) file format and avoid the use of special characters or any form of encryption. Wherever possible, include the electronic signature of the author. DOE does not accept telefacsimiles (faxes).

Any person submitting written comments must also send a copy to the petitioner, pursuant to 10 CFR 430.27(d). The contact information for the petitioner is: Ms Kelley A. Kline, Counsel—Regulatory Compliance, GE Consumer & Industrial, Appliance Park 2-225, Louisville, KY 40225, E-mail: Kelley.Kline@GE.com.

According to 10 CFR 1004.11, any person submitting information that he or she believes to be confidential and exempt by law from public disclosure should submit two copies to DOE: One copy of the document including all the information believed to be confidential, and one copy of the document with the information believed to be confidential deleted. DOE will make its own determination about the confidential status of the information and treat it according to its determination.

Docket: For access to the docket to review the background documents relevant to this matter, you may visit the U.S. Department of Energy, 950 L'Enfant Plaza SW., (Resource Room of the Building Technologies Program), Washington, DC 20024; (202) 586-2945, between 9 a.m. and 4 p.m., Monday through Friday, except Federal holidays. Available documents include the following items: (1) This notice; (2) public comments received; (3) the petition for waiver and application for interim waiver; and (4) prior DOE waivers and rulemakings regarding similar clothes washer products. Please call Ms. Brenda Edwards at the above telephone number for additional information regarding visiting the Resource Room.

FOR FURTHER INFORMATION CONTACT: Dr. Michael G. Raymond, U.S. Department of Energy, Building Technologies Program, Mail Stop EE-2J, Forrestal Building, 1000 Independence Avenue, SW., Washington, DC 20585-0121. Telephone: (202) 586-9611. E-mail: Michael.Raymond@ee.doe.gov.

Ms. Elizabeth Kohl, U.S. Department of Energy, Office of the General Counsel, Mail Stop GC-71, Forrestal Building, 1000 Independence Avenue, SW., Washington, DC 20585-0103. Telephone: (202) 586-7796. E-mail: Elizabeth.Kohl@hq.doe.gov.

SUPPLEMENTARY INFORMATION:

I. Background and Authority

Title III of the Energy Policy and Conservation Act (“EPCA”) sets forth a variety of provisions concerning energy efficiency. Part A of Title III provides for the “Energy Conservation Program for Consumer Products Other Than Automobiles.” (42 U.S.C. 6291-6309). Part A includes definitions, test procedures, labeling provisions, energy conservation standards, and the authority to require information and reports from manufacturers. Further, Part A authorizes the Secretary of Energy to prescribe test procedures that are reasonably designed to produce results which measure energy efficiency, energy use, or estimated operating costs, and that are not unduly burdensome to conduct. (42 U.S.C. 6293(b)(3)). The test procedure for automatic and semi-automatic clothes washers is contained in 10 CFR part 430, subpart B, appendix J1.

The regulations set forth in 10 CFR 430.27 contain provisions that enable a person to seek a waiver from the test procedure requirements for covered consumer products. A waiver will be granted by the Assistant Secretary for Energy Efficiency and Renewable Energy (the Assistant Secretary) if it is determined that the basic model for which the petition for waiver was submitted contains one or more design characteristics that prevents testing of the basic model according to the prescribed test procedures, or if the prescribed test procedures may evaluate the basic model in a manner so unrepresentative of its true energy consumption characteristics as to provide materially inaccurate comparative data. 10 CFR 430.27(l). Petitioners must include in their petition any alternate test procedures known to the petitioner to evaluate the basic model in a manner representative of its energy consumption. 10 CFR 430.27(b)(1)(iii). The Assistant Secretary may grant the waiver subject to conditions, including adherence to alternate test procedures. 10 CFR 430.27(l). Waivers remain in effect pursuant to the provisions of 10 CFR 430.27(m).

The waiver process also allows the Assistant Secretary to grant an interim waiver from test procedure requirements to manufacturers that have petitioned DOE for a waiver of such prescribed test procedures. 10 CFR 430.27(a)(2). An interim waiver remains in effect for 180 days or until DOE issues its determination on the petition for waiver, whichever is sooner. An interim waiver may be extended for an additional 180 days. 10 CFR 430.27(h).

II. Application for Interim Waiver and Petition for Waiver

On June 21, 2010, GE filed a petition for waiver and application for interim waiver from the test procedure applicable to automatic and semi-automatic clothes washers set forth in 10 CFR part 430, subpart B, appendix J1. In particular, GE requested a waiver to test its clothes washers with basket volumes greater than 3.8 cubic feet on the basis of the residential test procedures contained in 10 CFR part 430, Subpart B, Appendix J1, with a revised Table 5.1 which extends the range of container volumes beyond 3.8 cubic feet.

GE's petition seeks a waiver from the DOE test procedure because a test load is used within the procedure, and the mass of this test load is based on the basket volume of the test specimen, which is currently not defined for the basket sizes of the basic models cited in its waiver application. In the DOE test procedure, the relation between basket volume and test load mass is defined for basket volumes between 0 and 3.8 cubic feet. GE has designed a series of clothes washers that contain basket volumes greater than 3.8 cubic feet.

Table 5.1 of Appendix J1 defines the test load sizes used in the test procedure as linear functions of the basket volume. GE has submitted a revised table to extend the maximum basket volume from 3.8 cubic feet to 6.0 cubic feet, a table provided by the Association of Home Appliance Manufacturers (AHAM). AHAM provided calculations to extrapolate Table 5.1 of the DOE test procedure to larger container volumes. DOE believes that this procedure is reasonable because the DOE test procedure defines test load sizes as linear functions of the basket volume.

An interim waiver may be granted if it is determined that the applicant will experience economic hardship if the application for interim waiver is denied, if it appears likely that the petition for waiver will be granted, and/or the Assistant Secretary determines that it would be desirable for public policy reasons to grant immediate relief pending a determination of the petition for waiver. (10 CFR 430.27(g)). DOE determined that GE's application for interim waiver does not provide sufficient market, equipment price, shipments, and other manufacturer impact information to permit DOE to evaluate the economic hardship GE might experience absent a favorable determination on its application for interim waiver. In a previous similar case, however, DOE granted an interim test procedure waiver to Whirlpool for three of Whirlpool's clothes washer models with container capacities greater than 3.8 ft ³. 71 FR 48913 (August 22, 2006). This notice contained an alternate test procedure, which extended the linear relationship between maximum test load size and clothes washer container volume in Table 5.1 to include a maximum test load size of 15.4 pounds (lbs) for clothes washer container volumes of 3.8 to 3.9 ft ³.

DOE believes that the values in the test load size chart submitted by GE are appropriate. In addition, DOE believes that extending the linear relationship between test load size and container capacity to larger capacities is valid. Based on this discussion, and the interim waiver granted to Whirlpool, it appears likely that the petition for waiver will be granted. DOE notes, however, publication elsewhere in today's Federal Register of a petition for waiver received subsequently from Samsung Electronics America, Inc. (Samsung), also for clothes washers with capacities larger than 3.8 ft³. Samsung submitted an alternate test procedure that uses a slightly more accurate conversion factor to convert pounds to kilograms than was used by AHAM and GE. Use of Samsung's conversion factor results in small changes in revised Table 5.1. DOE will consider adopting the more accurate Table 5.1 in the subsequent decision and order. For the reasons stated above, the Department of Energy is granting an interim waiver to GE for its line of clothes washers with container volumes greater than 3.8 cubic feet, pursuant to 10 CFR 430.27(g). Therefore, it is ordered that:

The application for interim waiver filed by GE is hereby granted for the specified GE clothes washer basic models, subject to the specifications and conditions below.

1. GE shall not be required to test or rate the specified clothes washer products on the basis of the test procedure under 10 CFR part 430 subpart B, appendix J1.

2. GE shall be required to test and rate the specified clothes washer products according to the alternate test procedure as set forth in section IV, “Alternate test procedure.”

The interim waiver applies to the following basic model groups: PTWN8055*, PTWN8050*, PFWS4600*, PFWS4605*, PFWH4400*, PFWH4405*, GFWS3600*, GFWS3605*, GFWS3500*, GFWS3505*, GFWH3400*, GFWH3405*, GFWH2400*, GFWH2405*

III. Alternate Test Procedure

EPCA requires that manufacturers use DOE test procedures to make representations about the energy consumption and energy consumption costs of products covered by EPCA. (42 U.S.C. 6293(c)). Consistent representations are important for manufacturers to make representations about the energy efficiency of their products and to demonstrate compliance with applicable DOE energy conservation standards. Pursuant to its regulations for the grant of a waiver or interim waiver from an applicable test procedure at 10 CFR 430.27, DOE is considering setting an alternate test procedure for GE in the subsequent Decision and Order. This alternate procedure is intended to allow manufacturers of clothes washers with basket capacities larger than provided for in the current test procedure to make valid representations. This test procedure is based on the expanded Table 5.1 of Appendix J1 submitted by GE. Furthermore, if DOE specifies an alternate test procedure for GE, DOE may consider applying the alternate test procedure or a similar one using the more accurate conversion factor discussed above to similar waivers for residential clothes washers.

During the period of the interim waiver granted in this notice, GE shall test its clothes washer basic models according to the provisions of 10 CFR part 430 subpart B, appendix J1, except that the expanded Table 5.1 below shall be substituted for Table 5.1 of appendix J1.

Table 5.1—Test Load Sizes
Container volume: cu. ft. ≥ < | Container volume: (liter) ≥ < | Minimum load: lb | Minimum load: (kg) | Maximum load: lb | Maximum load: (kg) | Average load: lb | Average load: (kg)
0-0.8 | 0-22.7 | 3.00 | 1.36 | 3.00 | 1.36 | 3.00 | 1.36
0.80-0.90 | 22.7-25.5 | 3.00 | 1.36 | 3.50 | 1.59 | 3.25 | 1.47
0.90-1.00 | 25.5-28.3 | 3.00 | 1.36 | 3.90 | 1.77 | 3.45 | 1.56
1.00-1.10 | 28.3-31.1 | 3.00 | 1.36 | 4.30 | 1.95 | 3.65 | 1.66
1.10-1.20 | 31.1-34.0 | 3.00 | 1.36 | 4.70 | 2.13 | 3.85 | 1.75
1.20-1.30 | 34.0-36.8 | 3.00 | 1.36 | 5.10 | 2.31 | 4.05 | 1.84
1.30-1.40 | 36.8-39.6 | 3.00 | 1.36 | 5.50 | 2.49 | 4.25 | 1.93
1.40-1.50 | 39.6-42.5 | 3.00 | 1.36 | 5.90 | 2.68 | 4.45 | 2.02
1.50-1.60 | 42.5-45.3 | 3.00 | 1.36 | 6.40 | 2.90 | 4.70 | 2.13
1.60-1.70 | 45.3-48.1 | 3.00 | 1.36 | 6.80 | 3.08 | 4.90 | 2.22
1.70-1.80 | 48.1-51.0 | 3.00 | 1.36 | 7.20 | 3.27 | 5.10 | 2.31
1.80-1.90 | 51.0-53.8 | 3.00 | 1.36 | 7.60 | 3.45 | 5.30 | 2.40
1.90-2.00 | 53.8-56.6 | 3.00 | 1.36 | 8.00 | 3.63 | 5.50 | 2.49
2.00-2.10 | 56.6-59.5 | 3.00 | 1.36 | 8.40 | 3.81 | 5.70 | 2.59
2.10-2.20 | 59.5-62.3 | 3.00 | 1.36 | 8.80 | 3.99 | 5.90 | 2.68
2.20-2.30 | 62.3-65.1 | 3.00 | 1.36 | 9.20 | 4.17 | 6.10 | 2.77
2.30-2.40 | 65.1-68.0 | 3.00 | 1.36 | 9.60 | 4.35 | 6.30 | 2.86
2.40-2.50 | 68.0-70.8 | 3.00 | 1.36 | 10.00 | 4.54 | 6.50 | 2.95
2.50-2.60 | 70.8-73.6 | 3.00 | 1.36 | 10.50 | 4.76 | 6.75 | 3.06
2.60-2.70 | 73.6-76.5 | 3.00 | 1.36 | 10.90 | 4.94 | 6.95 | 3.15
2.70-2.80 | 76.5-79.3 | 3.00 | 1.36 | 11.30 | 5.13 | 7.15 | 3.24
2.80-2.90 | 79.3-82.1 | 3.00 | 1.36 | 11.70 | 5.31 | 7.35 | 3.33
2.90-3.00 | 82.1-85.0 | 3.00 | 1.36 | 12.10 | 5.49 | 7.55 | 3.42
3.00-3.10 | 85.0-87.8 | 3.00 | 1.36 | 12.50 | 5.67 | 7.75 | 3.52
3.10-3.20 | 87.8-90.6 | 3.00 | 1.36 | 12.90 | 5.85 | 7.95 | 3.61
3.20-3.30 | 90.6-93.4 | 3.00 | 1.36 | 13.30 | 6.03 | 8.15 | 3.70
3.30-3.40 | 93.4-96.3 | 3.00 | 1.36 | 13.70 | 6.21 | 8.35 | 3.79
3.40-3.50 | 96.3-99.1 | 3.00 | 1.36 | 14.10 | 6.40 | 8.55 | 3.88
3.50-3.60 | 99.1-101.9 | 3.00 | 1.36 | 14.60 | 6.62 | 8.80 | 3.99
3.60-3.70 | 101.9-104.8 | 3.00 | 1.36 | 15.00 | 6.80 | 9.00 | 4.08
3.70-3.80 | 104.8-107.6 | 3.00 | 1.36 | 15.40 | 6.99 | 9.20 | 4.17
3.80-3.90 | 107.6-110.4 | 3.00 | 1.36 | 15.80 | 7.18 | 9.40 | 4.27
3.90-4.00 | 110.4-113.3 | 3.00 | 1.36 | 16.20 | 7.36 | 9.60 | 4.36
4.00-4.10 | 113.3-116.1 | 3.00 | 1.36 | 16.60 | 7.55 | 9.80 | 4.45
4.10-4.20 | 116.1-118.9 | 3.00 | 1.36 | 17.00 | 7.73 | 10.00 | 4.55
4.20-4.30 | 118.9-121.8 | 3.00 | 1.36 | 17.40 | 7.91 | 10.20 | 4.64
4.30-4.40 | 121.8-124.6 | 3.00 | 1.36 | 17.80 | 8.09 | 10.40 | 4.73
4.40-4.50 | 124.6-127.4 | 3.00 | 1.36 | 18.20 | 8.27 | 10.60 | 4.82
4.50-4.60 | 127.4-130.3 | 3.00 | 1.36 | 18.70 | 8.50 | 10.85 | 4.93
4.60-4.70 | 130.3-133.1 | 3.00 | 1.36 | 19.1 | 8.65 | 11.03 | 5.00
4.70-4.80 | 133.1-135.9 | 3.00 | 1.36 | 19.5 | 8.83 | 11.24 | 5.10
4.80-4.90 | 135.9-138.8 | 3.00 | 1.36 | 19.9 | 9.02 | 11.44 | 5.19
4.90-5.00 | 138.8-141.6 | 3.00 | 1.36 | 20.3 | 9.21 | 11.65 | 5.28
5.00-5.10 | 141.6-144.4 | 3.00 | 1.36 | 20.7 | 9.39 | 11.85 | 5.38
5.10-5.20 | 144.4-147.3 | 3.00 | 1.36 | 21.1 | 9.58 | 12.06 | 5.47
5.20-5.30 | 147.3-150.1 | 3.00 | 1.36 | 21.5 | 9.76 | 12.26 | 5.56
5.30-5.40 | 150.1-152.9 | 3.00 | 1.36 | 21.9 | 9.95 | 12.46 | 5.65
5.40-5.50 | 152.9-155.8 | 3.00 | 1.36 | 22.3 | 10.13 | 12.67 | 5.75
5.50-5.60 | 155.8-158.6 | 3.00 | 1.36 | 22.7 | 10.32 | 12.87 | 5.84
5.60-5.70 | 158.6-161.4 | 3.00 | 1.36 | 23.2 | 10.51 | 13.08 | 5.93
5.70-5.80 | 161.4-164.3 | 3.00 | 1.36 | 23.6 | 10.69 | 13.29 | 6.03
5.80-5.90 | 164.3-167.1 | 3.00 | 1.36 | 24.0 | 10.88 | 13.49 | 6.12
5.90-6.00 | 167.1-169.9 | 3.00 | 1.36 | 24.4 | 11.06 | 13.70 | 6.21
Notes: (1) All test load weights are bone dry weights.
(2) Allowable tolerance on the test load weights are ±0.10 lbs (0.05 kg).

IV. Summary and Request for Comments

Through today's notice, DOE announces receipt of GE's petition for waiver from certain parts of the test procedure that apply to clothes washers and grants an interim waiver to GE. DOE is publishing GE's petition for waiver in its entirety pursuant to 10 CFR p 430.27(b)(1)(iv). The petition contains no confidential information. The petition includes a suggested alternate test procedure which is to measure the energy consumption of clothes washers with capacities larger than the 3.8 ft ³ specified in the current DOE test procedure. DOE is interested in receiving comments from interested parties on all aspects of the petition, including the suggested alternate test procedure and any other alternate test procedure. Pursuant to 10 CFR p 430.27(b)(1)(iv), any person submitting written comments to DOE must also send a copy to the petitioner, whose contact information is included in the ADDRESSES section above.

Issued in Washington, DC on September 16, 2010.
Henry Kelly,
Principal Deputy Assistant Secretary, Energy Efficiency and Renewable Energy.

U.S. Department of Energy

Application for Interim Waiver and Petition for Waiver, 10CFR430, Subpart B, Appendix J1—U.S. Department of Energy (“DOE” or “the Department”) Uniform Test Method for Measuring the Energy Consumption of Automatic and Semi-Automatic Clothes Washers

Case No.

Public Version

Submitted by:

Kelley A. Kline

Counsel-Regulatory Compliance

GE Consumer & Industrial

Appliance Park 2-225

Louisville, KY 40225

Kelley.Kline@ge.com

502-452-7603 (voice)

502-452-0395 (fax)

U.S. Department of Energy Application for Interim Waiver and Petition for Waiver, 10CFR430, Subpart B, Appendix J1—Uniform Test Method for Measuring the Energy Consumption of Automatic and Semi-Automatic Clothes Washers

Introduction

GE Appliances & Lighting, an operating division of General Electric Co., (“GE”) is a leading manufacturer and marketer of household appliances, including, as relevant to this proceeding, clothes washers, files this Petition for Waiver and Application for Interim Waiver (“Petition”). GE requests that the Assistant Secretary grant it a waiver from certain parts of the test procedure promulgated by the U.S. Department of Energy (“DOE” or “the Department”) for determining residential automatic and semi-automatic clothes washer energy consumption and allow GE to test its clothes washers pursuant to the modified table submitted herewith. This request is filed pursuant to 10 C.F.R. § 430.27.

GE is in the process of designing and launching new clothes washer models. A total investment and expense of $17.5MM has been made for research, development, facility upgrade, acquisition of tooling and equipment and product testing. Current production plans call for these products to begin to be manufactured on July 6, 2010.

In order to be assured that it is correctly calculating the energy consumption of the product, that the product meets the minimum energy requirements for its product class and is properly labeled, GE seeks the Department's expeditious concurrence to its proposed amendment to the clothes washer test procedure.

Even a casual review of the clothes washer test procedure ¹ reveals that this regulation has been overtaken by advances in technology, especially in terms of basket volume sizes of clothes washers on the market today. GE files this Petition for Waiver and Application for Interim Waiver to modify the portions of the regulations that do not permit accurate calculation of energy performance as related to basket volume size and test load mass.

¹ 10 C.F.R. Part 430, Subpart B, App. J1

The Department's regulations provide that the Assistant Secretary will grant a Petition upon “determin[ation] that the basic model for which the waiver was requested contains a design characteristic which either prevents testing of the basic model according to the prescribed test procedures, or the prescribed test procedures may evaluate the basic model in a manner so unrepresentative of its true energy consumption characteristics as to provide materially inaccurate comparative data.²”

² 10 C.F.R. Part 430.27

GE requests that the Assistant Secretary grant this Petition on both grounds. First, because failure of the clothes washer energy test procedure to correlate load size and basket volume for larger units does not allow the energy used by GE's new clothes washer to be accurately calculated. The new clothes washers contain baskets above 3.8 cubic feet, ranging up to 4.5 cubic feet. Since Table 5.1 of Appendix J1 currently defines test load sizes used during the procedure as linear functions of the basket volume, but only up to 3.8 cubic feet, the basket sizes of GE's new models are currently not defined.

Second, if GE were to test its new clothes washers as if the basket size were 3.8 cubic feet, i.e., with an average load size of 9.4 pounds, the results of the energy test so conducted would understate the energy used by the new models.

Need for Relief

The test procedure for calculating energy consumption defines the relation between basket volume and test load mass for basket volumes between 0 and 3.8 cubic feet. Market trends, however, have led manufacturers to design clothes washers with volumes greater than 3.8 cubic feet. Therefore, the existing test procedure is not applicable for units GE will be manufacturing. Indeed, the Department recognized this lack of applicability in the decision to grant a similar waiver to GE Corp. (71FR48913)

GE hereby requests an Interim Waiver and Waiver that will allow sale of the following models based on the attached table, previously provided by AHAM to the Department in AHAM Comments on the Framework Document for Residential Clothes Washers; EERE-2008-BT-STD-0019; RIN 1904-AB90, dated October 2, 2009. Those models will be General Electric brand clothes washer models. PTWN8055*, PTWN8050*, PFWS4600*, PFWS4605*, PFWH4400*, PFWH4405*, GFWS3600*, GFWS3605*, GFWS3500*, GFWS3505*, GFWH3400*, GFWH3405*, GFWH2400*, GFWH2405*. Since there is a linear relationship between container volume and test load size, AHAM provided calculations to extend Table 5.1 in Appendix B of these comments (attached).

Thank you for your timely attention to this request for Interim Waiver and Waiver.

Respectfully submitted,

Kelley A. Kline,

Authorized Representative of GE Appliances & Lighting

CERTIFICATION

I hereby certify that GE has notified all clothes washer manufacturers listed below known to GE to sell products in the United States and forwarded them a copy of this application:

Alliance Laundry Systems, Inc., BSH Home Appliances Corp. (Bosch-Siemens Hausgerate GmbH), Electrolux Home Products, Fisher & Paykel Appliances, Inc., Haier America Trading, L.L.C., LG Electronics USA INC., Miele Appliances, Inc., Samsung Electronics America, Inc. and GE Corporation.

In addition, GE has provided courtesy copies to: The Association of Home Appliance Manufacturers (AHAM), which is generally interested in DOE proceedings affecting the industry.

Kelley A. Kline

Appendix B

Table 5.1—Test Load Sizes
Container volume: cu. ft. ≥ < | Container volume: (liter) ≥ < | Minimum load: lb | Minimum load: (kg) | Maximum load: lb | Maximum load: (kg) | Average load: lb | Average load: (kg)
0-0.8 | 0-22.7 | 3.00 | 1.36 | 3.00 | 1.36 | 3.00 | 1.36
0.80-0.90 | 22.7-25.5 | 3.00 | 1.36 | 3.50 | 1.59 | 3.25 | 1.47
0.90-1.00 | 25.5-28.3 | 3.00 | 1.36 | 3.90 | 1.77 | 3.45 | 1.56
1.00-1.10 | 28.3-31.1 | 3.00 | 1.36 | 4.30 | 1.95 | 3.65 | 1.66
1.10-1.20 | 31.1-34.0 | 3.00 | 1.36 | 4.70 | 2.13 | 3.85 | 1.75
1.20-1.30 | 34.0-36.8 | 3.00 | 1.36 | 5.10 | 2.31 | 4.05 | 1.84
1.30-1.40 | 36.8-39.6 | 3.00 | 1.36 | 5.50 | 2.49 | 4.25 | 1.93
1.40-1.50 | 39.6-42.5 | 3.00 | 1.36 | 5.90 | 2.68 | 4.45 | 2.02
1.50-1.60 | 42.5-45.3 | 3.00 | 1.36 | 6.40 | 2.90 | 4.70 | 2.13
1.60-1.70 | 45.3-48.1 | 3.00 | 1.36 | 6.80 | 3.08 | 4.90 | 2.22
1.70-1.80 | 48.1-51.0 | 3.00 | 1.36 | 7.20 | 3.27 | 5.10 | 2.31
1.80-1.90 | 51.0-53.8 | 3.00 | 1.36 | 7.60 | 3.45 | 5.30 | 2.40
1.90-2.00 | 53.8-56.6 | 3.00 | 1.36 | 8.00 | 3.63 | 5.50 | 2.49
2.00-2.10 | 56.6-59.5 | 3.00 | 1.36 | 8.40 | 3.81 | 5.70 | 2.59
2.10-2.20 | 59.5-62.3 | 3.00 | 1.36 | 8.80 | 3.99 | 5.90 | 2.68
2.20-2.30 | 62.3-65.1 | 3.00 | 1.36 | 9.20 | 4.17 | 6.10 | 2.77
2.30-2.40 | 65.1-68.0 | 3.00 | 1.36 | 9.60 | 4.35 | 6.30 | 2.86
2.40-2.50 | 68.0-70.8 | 3.00 | 1.36 | 10.00 | 4.54 | 6.50 | 2.95
2.50-2.60 | 70.8-73.6 | 3.00 | 1.36 | 10.50 | 4.76 | 6.75 | 3.06
2.60-2.70 | 73.6-76.5 | 3.00 | 1.36 | 10.90 | 4.94 | 6.95 | 3.15
2.70-2.80 | 76.5-79.3 | 3.00 | 1.36 | 11.30 | 5.13 | 7.15 | 3.24
2.80-2.90 | 79.3-82.1 | 3.00 | 1.36 | 11.70 | 5.31 | 7.35 | 3.33
2.90-3.00 | 82.1-85.0 | 3.00 | 1.36 | 12.10 | 5.49 | 7.55 | 3.42
3.00-3.10 | 85.0-87.8 | 3.00 | 1.36 | 12.50 | 5.67 | 7.75 | 3.52
3.10-3.20 | 87.8-90.6 | 3.00 | 1.36 | 12.90 | 5.85 | 7.95 | 3.61
3.20-3.30 | 90.6-93.4 | 3.00 | 1.36 | 13.30 | 6.03 | 8.15 | 3.70
3.30-3.40 | 93.4-96.3 | 3.00 | 1.36 | 13.70 | 6.21 | 8.35 | 3.79
3.40-3.50 | 96.3-99.1 | 3.00 | 1.36 | 14.10 | 6.40 | 8.55 | 3.88
3.50-3.60 | 99.1-101.9 | 3.00 | 1.36 | 14.60 | 6.62 | 8.80 | 3.99
3.60-3.70 | 101.9-104.8 | 3.00 | 1.36 | 15.00 | 6.80 | 9.00 | 4.08
3.70-3.80 | 104.8-107.6 | 3.00 | 1.36 | 15.40 | 6.99 | 9.20 | 4.17
3.80-3.90 | 107.6-110.4 | 3.00 | 1.36 | 15.80 | 7.18 | 9.40 | 4.27
3.90-4.00 | 110.4-113.3 | 3.00 | 1.36 | 16.20 | 7.36 | 9.60 | 4.36
4.00-4.10 | 113.3-116.1 | 3.00 | 1.36 | 16.60 | 7.55 | 9.80 | 4.45
4.10-4.20 | 116.1-118.9 | 3.00 | 1.36 | 17.00 | 7.73 | 10.00 | 4.55
4.20-4.30 | 118.9-121.8 | 3.00 | 1.36 | 17.40 | 7.91 | 10.20 | 4.64
4.30-4.40 | 121.8-124.6 | 3.00 | 1.36 | 17.80 | 8.09 | 10.40 | 4.73
4.40-4.50 | 124.6-127.4 | 3.00 | 1.36 | 18.20 | 8.27 | 10.60 | 4.82
4.50-4.60 | 127.4-130.3 | 3.00 | 1.36 | 18.70 | 8.50 | 10.85 | 4.93
4.60-4.70 | 130.3-133.1 | 3.00 | 1.36 | 19.1 | 8.65 | 11.03 | 5.00
4.70-4.80 | 133.1-135.9 | 3.00 | 1.36 | 19.5 | 8.83 | 11.24 | 5.10
4.80-4.90 | 135.9-138.8 | 3.00 | 1.36 | 19.9 | 9.02 | 11.44 | 5.19
4.90-5.00 | 138.8-141.6 | 3.00 | 1.36 | 20.3 | 9.21 | 11.65 | 5.28
5.00-5.10 | 141.6-144.4 | 3.00 | 1.36 | 20.7 | 9.39 | 11.85 | 5.38
5.10-5.20 | 144.4-147.3 | 3.00 | 1.36 | 21.1 | 9.58 | 12.06 | 5.47
5.20-5.30 | 147.3-150.1 | 3.00 | 1.36 | 21.5 | 9.76 | 12.26 | 5.56
5.30-5.40 | 150.1-152.9 | 3.00 | 1.36 | 21.9 | 9.95 | 12.46 | 5.65
5.40-5.50 | 152.9-155.8 | 3.00 | 1.36 | 22.3 | 10.13 | 12.67 | 5.75
5.50-5.60 | 155.8-158.6 | 3.00 | 1.36 | 22.7 | 10.32 | 12.87 | 5.84
5.60-5.70 | 158.6-161.4 | 3.00 | 1.36 | 23.2 | 10.51 | 13.08 | 5.93
5.70-5.80 | 161.4-164.3 | 3.00 | 1.36 | 23.6 | 10.69 | 13.29 | 6.03
5.80-5.90 | 164.3-167.1 | 3.00 | 1.36 | 24.0 | 10.88 | 13.49 | 6.12
5.90-6.00 | 167.1-169.9 | 3.00 | 1.36 | 24.4 | 11.06 | 13.70 | 6.21

[FR Doc. 2010-23874 Filed 9-22-10; 8:45 am]

BILLING CODE 6450-01-P